FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaciton No. | Acquiring | Acquired | Entities
Transactions Granted Early Termination, 12/09/2002
20030026 | National Fuel Gas Company | Duke Energy Corporation | Empire State Pipeline Company, Inc. St. Clair Pipeline Company, Inc.
Transactions Granted Early Termination, 12/10/2002
20030134 | Groupe Danone | Sparkling Spring Water Holdings Limited | Sparking Spring Water Holdings Limited.
20030155 | SHPS, Inc. | eBenX, Inc. | eBenX, Inc.
20030156 | Visa U.S.A. Inc. | Visa International Service Association | Inovant, Inc.
20030169 | BC Gas Inc. | EnCana Corporation | EnCana Pipelines (USA) Inc. Express Holdings (USA) Inc.
20030178 | O'Charley's Inc. | 99 Boston Inc. | 99 Boston Inc.
20030179 | O'Charley's Inc. | Doe Family II, LLC | Doe Familym II, LLC.
Transactions Granted Early Termination, 12/11/2002
20030141 | The Charles A. Sammons 1987 Charitable Remainder Trust #2 | Sun Life Financial Services of Canada Inc | Clarica U.S. Inc.
Transactions Granted Early Termination, 12/12/2002
20030112 | 3M Company | Corning Incorporated | Corning Precision Lens Incorporated.
Transactions Granted Early Termination, 12/13/2002
20030124 | Bertarelli & Cie | Amgen Inc. | Immunex Corporation
20030157 | Behrman Capital III, L.P | Elan Corporation, plc | Athena Diagnostics, Inc.
20030174 | Sherritt International Corporation | Fording Inc | Fording Inc.
20030176 | Highfields Capital Ltd. c/o Goldman Sachs | Stilwell Financial, Inc | Stilwell Financial, Inc.
20030185 | Mohamed Bin Issa Al Jaber | Philipp Holzmann AG II | J.A. Jones Inc.
20030195 | The Williams Companies, Inc | The Williams Companies, Inc | Gulf Liquids Holdings LLC
20030199 | H.I.G. Capital Partners III, L.P | J.W. Child Equity Partners, L.P | DESA Holdings Corporation DESA International, Inc.
Transactions Granted Early Termination, 12/16/2002
20030163 | Plug Power Inc. | H Power Corp | H Power Corp.
20030165 | Cypress Merchant Banking Partners II | RNC Acquisition Corp | RNC Acquisition Corp.
20030166 | Cypress Merchant Banking Partners II L.P | Republic National Cabinet Corporation | Republic National Cabinet Corporation.
20030167 | HSB Holding plc | Household International, Inc | Household International, Inc.
20030172 | The Coca-Cola Company | Pokka Corporation | Pokka USA, Inc.
20030175 | The Clorox Company | The Procter & Gramble Company | The Procter & Gamble Company
20030192 | Earl E. Payton | Vigilant Holdings LLC | Trend Holdings, Inc.
20030193 | Bank of America Corporation | Vector Capital Management LLC | Vector Partners Limited Partnership. Vector TradePipe, LLC. Vector Trading, LLC.
20030197 | Welsh, Carson, Anderson & Stowe IX, L.P | US Investigations Services, Inc. ESOT | U.S. Investigations Services, Inc.
Transactions Granted Early Termination, 12/17/2002
20030177 | Farm Bureau Mutual Insurance Company | The Kansas Farm Bureau | The Kansas Farm Bureau.
Transactions Granted Early Termination, 12/18/2002
20030140 | Glaxo SmithKline plc | Theravance, Inc. | Theravance, Inc.
20030198 | Fritz Gerber | ANTISOMA plc | Antisoma Research Ltd.
Transactions Granted Early Termination, 12/19/2002
20030180 | Hormel Foods Corporation | Imperial Sugar Company | Diamond Crystal Brands, Inc. Diamond Crystal Holdings, Inc.
20030183 | J.P. Morgan Chase & Co | Allianz Aktiengesellschaft | DrKW Finance Inc.
20030186 | HCA Inc. | Health Midwest | Health Midwest.
20030194 | Wolseley plc | JELD-WEN HOLDINGS, Inc | JELD-WEN, Inc. Walker Lumber Company.
Transactions Granted Early Termination, 12/20/2002
20030203 | Cadence Design Systems, Inc | Celestry Design Technologies, Inc | Celestry Design Technologies, Inc.
Transactions Granted Early Termination, 12/23/2002
20020934 | Baxter International Inc | Wyeth | Wyeth Pharmaceuticals Inc.
20030173 | Tecumseh Products Company | Invensys plc | Eaton Technologies, Inc. Fasco Australia Pty Limited, Fasco Industries, Inc., Fasco Motors (Thailand) Limited Fasco Motors Limited,
20030202 | General Electric Company | Osmonics, Inc. | Osmonics, Inc.
20030208 | Quadrangle (GT) Capital Partners LP | GT Merchandising & Licensing Corp | GT Merchandising & Licensing Corp.
20030209 | Quadrangle (GT) Capital Partners LP | Good Times Entertainment Limited | Good Times Entertainment Limited.
20030211 | The Pepsi Bottling Group, Inc | Pepsi Cola Buffalo Bottling Corporation | Pepsi Cola Buffalo Bottling Corporation.
Transactions Granted Early Termination, 12/24/2002
20030149 | Herbst Gaming, Inc. | International Game Technology | Anchor Coin, Inc.
20030182 | King Pharmaceuticals, Inc | Aventis Pharmaceuticals, Inc | Fisons Limited.
Transactions Granted Early Termination, 12/27/2002
20030216 | Deseret Management Corporation | Simmons Media Group, LLC | Simmons Media Group, LLC.

FOR FURTHER INFORMATION CONTACT: Sandra M. Peay or Renee A. Hallman, Contact Representative, Federal Trade Commission, Premerger Notification Office, Bureau of Competition, Room 303, Washington, DC 20580, (202) 326-3100.

By Direction of the Commission.
Donald S. Clark,
Secretary.

[FR Doc. 03-1077 Filed 1-16-03; 8:45 am]

BILLING CODE 6750-01-M